DEPARTMENT OF TRANSPORTATION

Research and Innovative Technology Administration

Agency Information Collection; Activity Under OMB Review; Omnibus Household Survey Program

AGENCY: Research & Innovative Technology Administration (RITA), Bureau of Transportation Statistics (BTS), DOT.

ACTION: Notice.

SUMMARY: In accordance with the requirements of section 3506(c)(2)(A) of the Paperwork Reduction Act of 1995, this notice announces that the Information Collection Request (ICR) described below is being forwarded to the Office of Management and Budget (OMB) for approval for a new information collection related to the use of and satisfaction with the nation's transportation system. The ICR describes the nature of the information collection and its expected burden. The Federal Register notice with a 60-day comment period soliciting comments on the following collection of information was published on February 12, 2007 (72 FR 6665) and the comment period ended on April 14, 2007. The 60-day notice produced no comments.

DATES: Written comments should be submitted by May 24, 2007.

FOR FURTHER INFORMATION CONTACT: Ms. June Taylor Jones, Passenger Travel Program Manager, Room 3430, RITA, BTS, Department of Transportation, 400 Seventh Street, SW., Washington, DC 20590-0001. Telephone (202) 366-4743, Fax (202) 493-0568 or e-mail june.jones@dot.gov.

SUPPLEMENTARY INFORMATION: Title: Omnibus Household Survey (OHS) Program.

Type of Request: Approval of a new information collection.

OMB Control Number: New.

Affected Public: The population for the OHS Program is the non-institutionalized population, aged 18 and older, who live in the United States. The sampling frame will be a list-assisted random digit dialing (RDD) sample of U.S. residential telephone numbers. The sampling frame will be constructed to produce samples proportional to population density, resulting in nationally representative samples of residential telephone numbers. Individual survey respondents within selected households will be chosen at random.

Number of Respondents: 1,000-2,000 (depending on focus of survey).

Number of Responses: 1,000-2,000 (depending on focus of survey).

Total Annual Burden: 250-500 hours (Based on previous data collections, we estimate the average time to complete the survey is 15 minutes. 15 minutes × 1,000 respondents = 15,000 minutes/60 minutes = 250 hours or 500 hours if 2,000 respondents are sampled).

Abstract: In 2005, Congress passed, and the President signed, the Safe, Accountable, Flexible, Efficient Transportation Equity Act: A Legacy for Users (SAFETEA-LU; Pub. L. 109-59). SAFETEA-LU contained a number of legislative mandates including providing data, statistics and analyses to transportation decision-makers. The Research and Innovative Technology Administration, Bureau of Transportation Statistics (RITA/BTS) was tasked to accomplish this legislative mandate under 49 U.S.C. 111 (c) (1). RITA/BTS plans to use the Omnibus Household Survey (OHS) to:

• Assess the public's evaluation of the nation's transportation system in light of the DOT's strategic goals (safety, reduced congestion, global connectivity, environmental stewardship and security, preparedness and response),

• Provide a vehicle for the operating administrations within the DOT as well as other governmental agencies, to survey the public about current transportation issues, and

• Provide national estimates of transportation mode usage.

Each version of the OHS will focus on some subset of topics taken from the list below. Topics may vary from survey to survey since covering all topics in one questionnaire would make the respondent burden unacceptable:

Frequency of mode use in the month prior to the survey month:

Commercial air

Privately-owned vehicle

Taxi

Light rail

Commuter rail

Public bus

Intercity Rail (Amtrak)

Other modes such as biking and walking

Confidence in the safety of the following modes of transportation:

Commercial air

Privately-owned vehicle

Taxi

Light rail

Commuter rail

Water transportation (taxis, ferries, ships)

Public bus

Intercity Rail (Amtrak)

Other modes such as biking/walking/ferries

Confidence in the security procedures for the following modes of transportation:

Commercial air

Charter/general aviation

Privately-owned vehicle

Taxi

Light rail

Commuter rail

Water transportation (taxis, ferries, ships)

Public bus

Intercity Rail (Amtrak)

Assessment of/satisfaction with security procedures for the following modes of transportation:

Commercial air

Charter/general aviation

Privately-owned vehicle

Taxi

Light rail

Commuter rail

Water transportation (taxis, ferries, ships)

Public bus

Intercity Rail (Amtrak)

Processing through security at

Commercial airports

Train stations

Waterway entry points for ferries, water taxis, cruises

Knowledge of/confidence in the Registered Traveler Program

Knowledge of Registered Traveler Program

Have used Registered Traveler Program

Confidence in Registered Traveler Program

Knowledge of current check-in procedures at

Commercial airports

Train stations

Waterway entry points for ferries, water taxis, cruises

Knowledge of/confidence in the Alien Flight Student Program and TSA Vetting Programs

Experiences with transit delays related to suspicious/unattended baggage

Willingness/tolerance of transportation security risk management procedures

Information on journey to work

Transportation used (single mode/multiple mode)

Time required for one-way trip

Number of days traveled

Assessment of congestion

Methods for dealing with congestion

Telecommuting information

Commuting costs

Availability of transportation subsidies

Impact of congestion on commute

Impact of fuel costs on transportation use/travel behavior

Impact of on-line shopping on passenger and freight travel

Send comments to the Office of Information and Regulatory Affairs, Office of Management and Budget, 725-17th Street, NW., Washington, DC 20503, Attention: BTS Desk Officer.

Issued in Washington, DC on this 16th day of April, 2007.
William Bannister,
Acting Deputy Director, Research and Innovative Technology Administration, Bureau of Transportation Statistics, US Department of Transportation.

[FR Doc. E7-7755 Filed 4-23-07; 8:45 am]

BILLING CODE 4910-HY-P